DEPARTMENT OF AGRICULTURE

Rural Telephone Bank

Sunshine Act; Meeting

AGENCY: Rural Telephone Bank, USDA.

ACTION: Notice; correction.

Correction

In notice document 01-27479, beginning on page 54981 in the issue of Wednesday, October 31, 2001, make the following correction:

On page 54981, in the first column, under the second action heading for the board of directors meeting, the correct time should read 9 “a.m.”.

Dated: November 6, 2001.
Jonathan P. Claffey,
Deputy Assistant Administrator, Telecommunications Program.

[FR Doc. 01-28381 Filed 11-7-01; 11:58 am]

BILLING CODE 3410-15-M